DEPARTMENT OF COMMERCE

International Trade Administration

[A-428-801]

Antifriction Bearings (Other Than Tapered Roller Bearings) and Parts Thereof From Germany; Final Results of Antidumping Duty New-Shipper Review

AGENCY: Import Administration, International Trade Administration, Department of Commerce.

ACTION: Notice of Final Results of Antidumping Duty New-Shipper Review.

SUMMARY: On January 21, 2000, the Department of Commerce published the preliminary results of the new-shipper review of the antidumping duty order on antifriction bearings (other than tapered roller bearings) and parts thereof from Germany. This review covers one manufacturer/exporter, MPT Präzisionsteile GmbH Mittweida. The merchandise covered by this review is ball bearings and parts thereof from Germany. The period of review is May 1, 1998, through April 30, 1999. We gave interested parties an opportunity to comment on the preliminary results of review but received no comments. The final results do not differ from the preliminary results of review, in which we found that the respondent did not make sales in the United States at prices below normal value.

EFFECTIVE DATE: April 24, 2000.

FOR FURTHER INFORMATION CONTACT: Davina Hashmi at (202) 482-5760 or Robin Gray at (202) 482-4023, Import Administration, International Trade Administration, U.S. Department of Commerce, 14th and Constitution Avenue, NW, Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (1999).

Background

On January 21, 2000, the Department published in the Federal Register the preliminary results of its new-shipper review of antifriction bearings (other than tapered roller bearings) and parts thereof from Germany. Preliminary Results of the New-Shipper Review, 65 FR 3416 (January 21, 2000). We invited parties to comment on our preliminary results of review. We received no comments. The Department has now completed the new-shipper review in accordance with section 751 of the Act.

Scope of Review

The merchandise covered by this review includes all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedules (HTS) subheadings: 3926.90.45, 4016.93.00, 4016.93.10, 4016.93.50, 6909.19.5010, 8431.20.00, 8431.39.0010, 8482.10.10, 8482.10.50, 8482.80.00, 8482.91.00, 8482.99.05, 8482.99.10, 8482.99.35, 8482.99.6590, 8482.99.70, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90. The HTS item numbers are provided for convenience and customs purposes. They are not determinative of the products subject to the order. The written descriptions remain dispositive.

Size or precision grade of a bearing does not influence whether the bearing is covered by the order. This order covers all the subject bearings and parts thereof (inner race, outer race, cage, rollers, balls, seals, shields, etc.) outlined above with certain limitations. With regard to finished parts, all such parts are included in the scope of this order. For unfinished parts, such parts are included if (1) they have been heat-treated, or (2) heat treatment is not required to be performed on the part. Thus, the only unfinished parts that are not covered by this order are those that will be subject to heat treatment after importation.

The ultimate application of a bearing also does not influence whether the bearing is covered by the order. Bearings designed for highly specialized applications are not excluded. Any of the subject bearings, regardless of whether they may ultimately be utilized in aircraft, automobiles, or other equipment, are within the scope of this order.

Verification

Pursuant to section 782(i) of the Act, we verified information provided by MPT using standard verification procedures, including the examination of relevant sales and financial records, as well as the selection of original documentation containing relevant information. Our verification results are outlined in the public version of the verification report, dated December 2, 1999, and located in the public file in the Central Records Unit, room B-099 of the Department's main building.

Final Results of the Review

We received no comments from interested parties on our preliminary results. In addition, we have determined that no changes to our analysis are warranted for purposes of these final results. The weighted-average dumping margin for the period May 1, 1997, through April 30, 1998, is as follows:

Company | Margin
MPT | 0.00%

Because the weighted-average dumping margin is zero, we will instruct the Customs Service to liquidate entries made during this review period without regard to antidumping duties for the subject merchandise that MPT exported.

Cash-Deposit Requirements

The following deposit requirements shall be effective upon publication of this notice of final results of administrative review for all shipments of ball bearings from Germany, entered, or withdrawn from warehouse, for consumption on or after the publication date, as provided for by section 751(a)(1) of the Act: (1) The cash-deposit rate for MPT will be 0.00 percent; (2) for previously investigated or reviewed companies, the cash-deposit rate will continue to be the company-specific rate published for the most recent period; (3) if the exporter is not a firm covered in this or any previous review or the original less-than-fair-value investigation, but the manufacturer is, the cash-deposit rate will be the rate established for the most recent period for the manufacturer of the merchandise; and (4) the cash-deposit rate for all other manufacturers or exporters will continue to be 68.89 percent, the all-others rate.

These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Act.

Dated: April 14, 2000.
Troy H. Cribb,
Acting Assistant Secretary for Import Administration.

[FR Doc. 00-10191 Filed 4-21-00; 8:45 am]

BILLING CODE 3510-DS-P